DEPARTMENT OF ENERGY

Federal Energy Regulatory Commission

Sunshine Act Meetings

The following notice of meeting is published pursuant to section 3(a) of the government in the Sunshine Act (Pub. L. 94-409), 5 U.S.C.552b:

Agency Holding Meeting: Federal Energy Regulatory Commission.

TIME AND DATE: April 15, 2021, 10:00 a.m.

PLACE: Open to the public via audio Webcast only. Join FERC online to listen live at http://ferc.capitolconnection.org/

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission.It does not include a listing of all documents relevant to the items on the agenda. All public documents, however, may be viewed on line at the Commission's website at http://ferc.capitolconnection.org/ using the eLibrary link.

1077th Meeting—Open Meeting
[April 15, 2021, 10:00 a.m.]
Item No. | Docket No. | Company
Administrative
A-1 | AD21-1-000 | Agency Administrative Matters.
A-2 | AD21-2-000 | Customer Matters, Reliability, Security and Market Operations.
Electric
E-1 | RM20-10-000 | Electric Transmission Incentives Policy Under Section 219 of the Federal Power Act.
E-2 | AD20-14-000 | Carbon Pricing in Organized Wholesale Electricity Markets.
E-3 | RM19-20-000 | WECC Regional Reliability Standard BAL-002-WECC-3 (Contingency Reserve).
E-4 | ER20-2436-000, ER20-2437-000, ER20-2437-001 | Midcontinent Independent System Operator, Inc.
E-5 | ER20-2423-000, ER20-2424-000, ER20-2424-001, ER20-2427-000, ER20-2427-001 | Midcontinent Independent System Operator, Inc.
E-6 | ER20-2411-000, ER20-2412-000, ER20-2412-001 | Midcontinent Independent System Operator, Inc.
E-7 | ER20-2438-000, ER20-2439-000, ER20-2439-001 | Midcontinent Independent System Operator, Inc.
E-8 | EL17-89-000 | American Electric Power Service Corporation v. Midcontinent Independent System Operator, Inc. and Southwest Power Pool, Inc.
| EL19-60-000 | City of Prescott, Arkansas v. Southwestern Electric Power Company and Midcontinent Independent System Operator, Inc.
E-9 | EL20-65-000 | New York Independent System Operator, Inc.
E-10 | IN21-6-000 | PacifiCorp.
E-11 | ER20-1708-001 | California State University-Channel Islands Site Authority.
E-12 | ER20-1150-001 | PJM Interconnection, L.L.C. and The Dayton Power & Light Company.
E-13 | ER20-1738-001 | City of Anaheim, California.
E-14 | ER20-227-001 | PJM Interconnection, L.L.C. and Jersey Central Power & Light Company.
E-15 | ER19-2585-001 | Florida Power & Light Company.
E-16 | EL20-49-001 | Shell Energy North America (US), L.P.
E-17 | ER16-2320-006 | Pacific Gas and Electric Company.
E-18 | EL20-47-000 | Deseret Generation and Transmission Co-operative, Inc.
E-19 | EL10-65-008, EL10-65-009 | Louisiana Public Service Commission v. Entergy Corporation, Entergy Services Inc., Entergy Louisiana, LLC, Entergy Arkansas, Inc., Entergy Mississippi, Inc., Entergy New Orleans, Inc., Entergy Gulf States Louisiana, L.L.C., and Entergy Texas, Inc.
E-20 | Omitted |
E-21 | ER21-395-000 | California Independent System Operator Corporation.
E-22 | ER21-70-000 | Wilderness Line Holdings, LLC.
E-23 | EL20-67-000 | Vistra Corp., Dynegy Marketing and Trade, LLC, NextEra Energy Resources, LLC, NRG Power Marketing LLC, LS Power Associates, L.P., FirstLight Power Inc., Cogentrix Energy Power Management, LLC, v. Constellation Mystic Power, LLC, Exelon Generation Company, LLC, and Exelon Corporation.
E-24 | EL20-36-001 | Bonneville Power Administration v. Avista Corporation.
E-25 | EL21-18-000 | Kansas Electric Power Cooperative, Inc. v. Evergy Kansas Central, Inc.
E-26 | EL20-71-000 | Duke Energy Indiana, LLC v. AEP Indiana Michigan Transmission Company, Inc.
E-27 | EL21-15-000 | Citizens S-Line Transmission LLC.
E-28 | ER21-424-000 | Michigan Electric Transmission Company, LLC.
Gas
G-1 | RM20-14-001 | Five-Year Review of the Oil Pipeline Index.
G-2 | RP19-1634-002 | Kinetica Deepwater Express, LLC.
| RP20-788-000, RP13-1116-000, RP19-54-000 | Kinetica Energy Express, LLC.
Hydro
H-1 | P-10809-052 | Boyce Hydro Power, LLC.
| P-10810-058, P-2785-104 |
Certificates
C-1 | CP16-480-000 | Annova LNG Common Infrastructure, LLC.
C-2 | CP20-456-000 | Enable Mississippi River Transmission, LLC.
C-3 | CP20-470-000 | Washington 10 Storage Corporation and South Romeo Gas Storage Company, L.L.C.
C-4 | CP20-487-000 | Northern Natural Gas Company.

Issued: April 8, 2021.
Nathaniel J. Davis, Sr.,
Deputy Secretary.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2021-07683 Filed 4-12-21; 11:15 am]

BILLING CODE 6717-01-P